DEPARTMENT OF LABOR

Senior Community Service Employment Program (SCSEP) Performance Measurement System

AGENCY: Department of Labor, Employment and Training Administration, Division of National Programs, Tools, and Technical Assistance.

ACTION: Notice of OMB approval of information collection requirements.

SUMMARY: The Paperwork Reduction Act (PRA) requires this notice to set forth the effectiveness of information collection requirements contained in 20 CFR part 641, related to the Senior Community Service Employment Program (SCSEP); Final Rule, Additional Indicator on Volunteer Work. See 77 FR 4654.

DATES: On March 27, 2012, the Office of Management and Budget (OMB) approved under the PRA the Department of Labor's information collection request for requirements in 20 CFR part 641. The current expiration date for OMB authorization for this information collection is March 31, 2015.

ADDRESSES: Written comments regarding the burden-hour estimates or other aspects of the information collection requirements contained in 20 CFR part 641 may be submitted to: Ann Maize, Division of National Programs, Tools, and Technical Assistance, Room S-4203, 200 Constitution Avenue NW., Washington DC 20210.

FOR FURTHER INFORMATION CONTACT: Kimberly Vitelli, Chief, Division of National Programs, Tools, and Technical Assistance, Employment and Training Administration, U.S. Department of Labor, Room S-4203, 200 Constitution Avenue NW, Washington, DC 20210; telephone: (202) 693-3639 (this is not a toll-free number).

Questions of interpretation and/or enforcement of regulations referenced in this notice may be directed to: Michael S. Jones, Acting Administrator, Office of Policy Development and Research, Employment and Training Administration, U.S. Department of Labor, Room N-5641, 200 Constitution Avenue NW., Washington, DC 20210; telephone: (202) 693-3700 (this is not a toll-free number).

This notice is available through the printed Federal Register and electronically via the http://www.gpo.gov/fdsys/browse/collection.action?collectionCode=FR web site.

Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: The Office of Management and Budget (OMB) has approved under the PRA information collection requirements contained in recently revised final regulations under the Older Americans Act (OAA) published by the Department of Labor in the Federal Register on January 31, 2012. See 77 FR 4654. The purpose of the Final Rule was to implement an additional indicator for volunteer work in the SCSEP. Specifically, this rule amended existing regulations regarding Performance Accountability for title V of the OAA and corresponding definitions. These regulations also provided administrative and programmatic guidance and requirements for the implementation of the SCSEP.

The preamble to the new regulations stated an effective date of March 1, 2012; however, OMB had not yet provided a PRA-required approval for the revised information collection requirements contained in the revised SCSEP rules at the time of their publication. 44 U.S.C. 3507(a)(2). An agency may not conduct an information collection unless it has a currently valid OMB approval; therefore, in accordance with the PRA, the effective date of the information collection requirements in the revised regulations was delayed until OMB approved them under the PRA. 44 U.S.C. 3506(c)(1)(B)(iii)(V). On March 27, 2012, OMB approved the Department's information collection request under Control Number 1215-0040, thus giving effect to the requirements, as announced and published in the Federal Register on January 31, 2012, under the PRA. The current expiration date for OMB authorization for this information collection is March 31, 2015.

Dated: Signed in Washington, DC on this 18th day, April 2012.
Jane Oates,
Assistant Secretary, Employment and Training Administration.

[FR Doc. 2012-9830 Filed 4-24-12; 8:45 am]

BILLING CODE 4510-FN-P